OFFICE OF SPECIAL COUNSEL

Information Collection Activities; Submission for OMB Review; Comment Request

AGENCY: U.S. Office of Special Counsel (OSC).

ACTION: Notice of request for public comment and submission for OMB review of proposed reinstatement of an information collection.

SUMMARY: In accordance with the Paperwork Reduction Act of 1995, the U.S. Office of Special Counsel (OSC) has submitted a request to the Office of Management and Budget (OMB) to reinstate a previously approved information collection that has expired. This notice provides the public an opportunity to comment during a 30-day period before OMB makes a final decision. OSC is statutorily required to conduct an annual survey evaluating its operations and the effectiveness of its services, including those related to Prohibited Personnel Practices (PPP), whistleblower disclosures, and Hatch Act advisory opinions.

DATES: Comments must be received by July 16, 2025.

ADDRESSES: Submit written comments and recommendations for the proposed information collection at: www.reginfo.gov/public/do/PRAMain. Find this information collection by selecting “Currently under 30-day Review—Open for Public Comments” or using the search function.

FOR FURTHER INFORMATION CONTACT: Barbara Wheeler Jones, U.S. Office of Special Counsel, at (202) 804-7131 or via email at frliaison@osc.gov.

SUPPLEMENTARY INFORMATION:

• Title of Collection: OSC Annual Survey.

• OMB Control Number: 3255-0003.

• Type of Review: Reinstatement without change of a previously approved collection.

• Respondents: Individuals (or their representatives) who have sought assistance from OSC.

• Estimated Number of Respondents: 2,700.

• Estimated Time per Response: 15 minutes (0.25 hours).

• Total Estimated Annual Burden: 675 hours.

• Obligation To Respond: Voluntary.

• Frequency: Annual.

OSC is required under 5 U.S.C. 1212(e) and Section 13 of Public Law 103-424 to conduct an annual survey to evaluate the effectiveness of its operations. The survey gathers feedback from individuals who filed PPP complaints or whistleblower disclosures, or who sought Hatch Act advisory opinions. The survey focuses on the clarity and timeliness of communications, resolution outcomes, and overall satisfaction with OSC's services. It consists of four electronic questionnaires with up to 12 questions each.

OSC uses the results to assess performance and inform improvements. Results are reported annually to Congress and made publicly available at www.osc.gov. The most recent 60-day notice for this collection was published in the Federal Register on April 9, 2025 (90 FR 15264).

This 30-day notice provides a final opportunity for public comment before OMB takes action. OSC is particularly interested in feedback on:

1. Whether the collection is necessary for OSC's mission and has practical utility;

2. The accuracy of OSC's burden estimate, including the assumptions used;

3. Ways to improve the quality, utility, and clarity of the information collected; and

4. Methods to minimize the burden on respondents, including the use of technology.

All comments must be in writing and submitted as described in the ADDRESSES section. Please note that any comments submitted will become part of the public record.

Dated: June 10, 2025.
Barbara Wheeler Jones,
Chief, Case Review Division, U.S. Office of Special Counsel.

[FR Doc. 2025-10895 Filed 6-13-25; 8:45 am]

BILLING CODE 7405-01-P